SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. The information collection packages that may be included in this notice are for new information collections, revisions to OMB-approved information collections, and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer.

(OMB), Office of Management and Budget, Attn: Desk Officer for SSA, Fax: 202-395-6974.

(SSA), Social Security Administration, DCFAM, Attn: Reports Clearance Officer, 1338 Annex Bldg., 6401 Security Blvd., Baltimore, MD 21235; Fax: 410-965-6400.

I. The information collections listed below are pending at SSA and will be submitted to OMB January 7, 2005. Therefore, your comments should be submitted to SSA by this date. You can obtain copies of the collection instruments by calling the SSA Reports Clearance Officer at 410-965-0454, or by writing to the address listed above.

1. Disability Determination and Transmittal—20 CFR 404.1615(e), 416.1015(f)—0960-0437. The information collected on Form SSA-831-C3/U3 is used by SSA to document the State agency determination as to whether an individual who applies for disability benefits is eligible for those benefits based on his/her alleged disability. SSA also uses the information for program management and evaluation. The respondents are State Disability Determination Services adjudicating Title II and Title XVI disability determinations for SSA.

Type of Request: Extension of an OMB-approved information collection.

Number of Respondents: 3,155,120.

Frequency of Response: 1.

Average Burden Per Response: 15 minutes.

Estimated Average Burden: 788,780 hours.

2. Non-Attorney Representative Demonstration Project Application—0960-NEW. Section 303 of the Social Security Protection Act of 2004 (SSPA) provides for a 5-year demonstration project to be conducted by SSA under which the direct payment of SSA-approved fees is extended to certain non-attorney claimant representatives. Under the SSPA, to be eligible for direct payment of fees, a non-attorney representative must fulfill the following statutory requirements: (1) Possess a bachelors degree or have equivalent qualifications derived from training and work experience; (2) pass an examination that tests knowledge of the relevant provisions of the Social Security Act; (3) secure professional liability insurance or equivalent insurance; (4) pass a criminal background check; and (5) demonstrate completion of relevant continuing education courses. Through the services of a private contractor, SSA must collect the requested information to determine if a non-attorney representative has met the statutory requirements to be eligible for direct payment of fees for his or her claimant representation services. The information collection is needed to comply with the legislation. The respondents are non-attorney representatives who apply for direct payment of fees.

Type of Request: New information collection.

Number of Respondents: 500.

Frequency of Response: 1.

Average Burden Per Response: 1 hour.

Estimated Annual Burden: 500 hours.

3. Request For Review of Hearing Decision/Order—20 CFR 404.967-.981, 20 CFR 416.1467-.1481—0960-0277. SSA collects the information on Form HA-520 from each claimant for Title II or Title XVI benefits who is dissatisfied with the hearing decision or the dismissal of a hearing request and wants to request review of the decision by the Appeals Council. An individual may request Appeals Council review by filing a written request. However, a completed HA-520 ensures that SSA receives the information necessary to establish that the claimant filed the request for review within the prescribed time, that the claimant is a proper party, and that the claimant has completed the requisite steps to permit review by the Appeals Council. The Appeals Council also uses the information provided by the claimant to document the claimant's reason(s) for disagreeing with the ALJ decision or dismissal, to determine whether the claimant has additional evidence to submit, and to determine whether the claimant has a representative or wants to appoint one.

Type of Request: Extension of an approved OMB information collection.

Number of Respondents: 107,485.

Frequency of Response: 1.

Average Burden Per Response: 10 minutes.

Estimated Annual Burden: 17,914 hours.

4. State Mental Institution Policy Review—20 CFR 416 subpart U, 20 CFR 416 subpart F, 20 CFR 404.2035 and .2065, 20 CFR 416.635 and .665—0960-0110. SSA sends Form SSA-9584-BK to State mental institutions that participate in SSA's representative payee onsite review program. As a representative payee, the State mental institution has the responsibility to receive and administer payments to beneficiaries who have been determined by SSA to be incapable of managing benefits. SSA is required by law and regulations to monitor representative payees' use of benefits. Under the onsite review program, SSA conducts a triennial review of State mental institutions in order to determine whether the institutions' policies and practices conform with SSA's regulations in the use of benefits, and the other duties and responsibilities required of representative payees.

The form obtains information needed by the SSA review team (comprised of representatives from SSA's regional and field offices) and provides a basis for conducting the actual onsite review. In addition, the information is used in the preparation of the subsequent report of findings and recommendations, which is issued to the institutions.

Type of Request: Extension of an approved OMB information collection.

Number of Respondents: 100.

Frequency of Response: 1.

Average Burden Per Response: 60 minutes.

Estimated Annual Burden: 100 hours.

II. The information collections listed below have been submitted to OMB for clearance. Written comments and recommendations regarding the information collections should be submitted to the OMB Desk Officer and the SSA Reports Clearance Officer. In order for your comments to be considered, you must send them by December 8, 2004. You can obtain a copy of the OMB clearance package by calling the SSA Reports Clearance Officer at 410-965-0454, or by writing to the address listed above.

1. Acknowledgement of Receipt (Notice of Hearing)—20 CFR 404.938 and 416.1438—0960-0671. The information collected by form HA-504 is used by the Social Security Administration to process requests for hearings about unfavorable determinations of entitlement or eligibility to disability payments. Specifically, this form is used to acknowledge receipt of the notice of hearing issued by an Administrative Law Judge. The respondents are applicants for Title II disability payments who want to have a hearing to appeal an unfavorable entitlement or eligibility decision.

Type of Request: Extension of an OMB-approved information collection.

Number of Respondents: 670,000.

Frequency of Response: 1.

Average Burden Per Response: 1 minute.

Estimated Annual Burden: 11,167 hours.

2. Early Intervention Project/Employment Services Provider Survey/0960-NEW.

Background

The Employment Services Provider Survey is being conducted as part of a process demonstration authorized by the Ticket to Work and Work Incentives Improvement Act of 1999. The process demonstration, Early Intervention (EI), will provide employment services and supports to certain applicants for Social Security disability insurance.

The purpose of the EI Project is to encourage applicants to begin the return to work process immediately after the onset of a disability. Many experts believe early intervention to be one of the most important factors in successful rehabilitation. Therefore, EI will immediately focus on a person's ability to work as opposed to proving they are unable to work as they do during the existing Title II disability determination process. The proposed process demonstration is necessary to test the instruments and procedures targeted towards these objectives.

The EI Survey

Beginning in early 2005, EI will be piloted in three states. In New Mexico, EI will be piloted in the Albuquerque, Roswell/Carlsbad/Hobbs and Clovis areas. In Vermont, EI will be piloted throughout the entire state. In Wisconsin, EI will be piloted in the following counties: Green, Jefferson, Rock, Walworth, and Waukesha.

Information collected through the EI survey will be used by SSA for the purposes of project design, implementation and evaluation. The information will assist in designing how linkages are formed between participants and providers for EI. SSA's EI project staff will use the information to identify appropriate employment service providers for project participants. Project evaluators will use the information collected from the survey as a baseline assessment of the provider market in each area. The respondents to the EI survey are employment service providers in the pilot states.

Type of Request: New information collection.

Number of Respondents: 150.

Frequency of Response: 1.

Average Burden Per Response: 30 minutes.

Estimated Annual Burden: 75 hours.

3. Request for Hearing by Administrative Law Judge—20 CFR 404.933 and 416.1433, 42 CFR 405.722—0960-0269. The information collected by form HA-501 is used by SSA to process a request for a hearing on an unfavorable determination of entitlement or eligibility to benefits administered by SSA. The respondents are individuals whose claims for benefits are denied and who request a hearing to appeal the denial.

Type of Request: Extension of an OMB-approved information collection.

Number of Respondents: 667,236.

Frequency of Response: 1.

Average Burden Per Response: 10 minutes.

Estimated Annual Burden: 111,206 hours.

4. Contact with the Representative Payee and Contact with Beneficiary—0960-0639. SSA will use the SSA-L4945, Contact with the Representative Payee, and SSA-L4947, Contact with Beneficiary, to inform respondents and conduct quality reviews of payments made under the titles II and XVI programs. Cases for the review will be selected randomly and the information solicited will be used for verification of payment data on record in the claims folder and SSA's Master Beneficiary Record. Form SSA-L4945 will be used to notify Representative Payees who have the responsibility of managing payments for a beneficiary that the case has been selected for the review process and to request the required information. Form SSA-L4947 will be used to notify beneficiaries that their case has been selected for the review process and request the needed information. Both letters contain information that must be verified and returned to SSA under the review process. The respondents are beneficiaries and representative payees for beneficiaries receiving Title II and Title XVI benefits.

Type of Request: Extension of an OMB-approved information collection.

Number of Respondents: 200.

Frequency of Response: 1.

Average Burden Per Response: 15 minutes.

Estimated Annual Burden: 50 hours.

5. Employer Report of Special Wage Payments—20 404.428-404.429—0960-0565. SSA gathers the information on Form SSA-131 to prevent earnings-related overpayments to employees, and to avoid erroneous withholding of benefits. The respondents are employers who provide special wage payment verification.

Type of Request: Extension of an OMB-approved information collection.

Number of Respondents: 30,000.

Frequency of Response: 1.

Average Burden of Response: 20 minutes.

Estimated Average Burden: 10,000 hours.

6. Disability Hearing Officer's Report of Disability Hearing (DC)—20 CFR 416.1407—0906-0507. The information collected on form SSA-1204-BK is used by the Disability Hearing Officer (DHO) to conduct and document disability hearings, and to provide a structured format that covers all conceivable issues relating to Title XVI claims for disabled children. The completed SSA-1204-BK will aid the DHO in preparing the disability decision and will provide a record of what transpired in the hearing. The respondents are DHOs in the State Disability Determination Services.

Type of Request: Extension of an OMB-approved information collection.

Number of Respondents: 35,000.

Frequency of Response: 1.

Average Burden per Response: 60 minutes.

Estimated Average Burden: 35,000 hours.

7. Medical Report (Individual with Childhood Impairment)—20 CFR 404.1512-404.1515, 20 CFR 416.912-416.915—0960-0102. The information collected on Form SSA-3827 is needed to determine the claimant's physical and mental status prior to making a childhood disability determination. The respondents are medical sources.

Type of Request: Extension of an OMB-approved information collection.

Number of Respondents: 12,000.

Frequency of Response: 1.

Average Burden per Response: 30 minutes.

Estimated Average Burden: 6,000 hours.

8. RS/DI Quality Review Case Analysis: Sampled Number Holder, Auxiliaries/Survivors, Parents: Stewardship Annual Earnings Test Workbook—0960-0189. SSA uses the information collected by forms SSA-2930, SSA-2931, and SSA-2932 to establish a national payment accuracy rate for all cases in payment status; to measure the accuracy rate for newly adjudicated claims for beneficiaries receiving old-age, survivors, or disability insurance; and to serve as a source of information regarding problem areas in the RSI/DI programs. Form SSA-4569 is used to evaluate and determine the effectiveness of the annual earnings test and to use the results to develop ongoing improvements in the process. The respondents are beneficiaries and representative payees for beneficiaries receiving old age, survivors, or disability insurance.

Type of Request: Extension of an OMB-approved information collection.

| Number of respondents | Frequency of response | Average burden per response (minutes) | Estimated annual burden (hours)
SSA-2930 | 3,000 | 1 | 30 | 1,500
SSA-2931 | 1,500 | 1 | 30 | 750
SSA-2932 | 650 | 1 | 20 | 217
SSA-4659 | 325 | 1 | 10 | 54
Totals | 5,475 |  |  | 2,521

Total Estimated Annual Burden: 2,521 hours.

Dated: November 2, 2004.
Elizabeth A. Davidson,
Reports Clearance Officer, Social Security Administration.

[FR Doc. 04-24810 Filed 11-5-04; 8:45 am]

BILLING CODE 4191-02-P